DEPARTMENT OF HEALTH AND HUMAN SERVICES

Health Resources and Services Administration

Recruitment of Sites for Assignment of National Health Service Corps Loan Repayors (FY 2012)

AGENCY: Health Resources and Services Administration, HHS.

ACTION: General notice.

SUMMARY: The Health Resources and Services Administration (HRSA) announces that the proposed list of the Health Professional Shortage Areas (HPSAs) and entities that would receive priority in applying for the assignment of National Health Service Corps (NHSC) Loan Repayors (Corps personnel, Corps members) during the period November 1, 2011, through September 30, 2012 is posted on the NHSC Web site at http://datawarehouse.hrsa.gov/HGDWReports/OneClickRptFilter.aspx?rptName=NHSCAppSiteList&rptFormat=HTML3.2. This database can be searched by State and will show the entities that have been approved by the NHSC for the assignment of NHSC Loan Repayment Program (LRP) participants serving as Corps members (i.e. Federal employees or Private Practice Assignees), as well as NHSC LRP participants wishing to exercise the Private Practice Option (PPO).

Eligible HPSAs and Entities

To be eligible to receive assignment of Corps personnel, entities must: (1) Have a current HPSA status of “designated” by the Office of Shortage Designation, Bureau of Health Professions, HRSA; (2) not deny requested health care services, or discriminate in the provision of services to an individual because the individual is unable to pay for the services or because payment for the services would be made under Medicare, Medicaid, or the Children's Health Insurance Program; (3) enter into an agreement with the State agency that administers Medicaid and the Children's Health Insurance Program, accept assignment under Medicare, and use and post a discounted fee plan (including fee waivers as appropriate); and (4) be determined by the Secretary to have (a) a need and demand for health manpower in the area; (b) appropriately and efficiently used Corps members assigned to the entity in the past; (c) general community support for the assignment of Corps members; (d) made unsuccessful efforts to recruit health care providers; (e) a reasonable prospect for sound fiscal management by the entity with respect to Corps members assigned there; and (f) demonstrated a willingness to support and facilitate mentorship, professional development and training opportunities for Corps members. Priority in approving applications for assignment of Corps members goes to sites that (1) provide primary medical care, mental health, or oral health services to a primary medical care, mental health, or dental HPSA of greatest shortage, respectively; (2) are part of a system of care that provides a continuum of services, including comprehensive primary health care and appropriate referrals or arrangements for secondary and tertiary care; (3) have a documented record of sound fiscal management; and (4) will experience a negative impact on its capacity to provide primary health services if a Corps member is not assigned to the entity. Sites that provide specialized care, or a limited set of services, will receive greater scrutiny and may not receive approval as NHSC service sites. This may include clinics that focus on one disease or disorder or offer limited services, such as a clinic that only provides immunizations or a substance abuse clinic. In order for a site to be eligible for placement of NHSC personnel, it must submit a Site Application and the Site Application must be approved by the NHSC. The NHSC site approval is good for a period of 3 years from the date of approval.

Entities that receive assignment of Corps personnel must ensure that (1) the position will permit the full scope of practice and that the clinician meets the credentialing requirements of the State and site; and (2) the Corps member assigned to the entity is engaged in the requisite amount of clinical service, as defined below, to meet his or her service obligation:

Full-Time Clinical Practice

“Full-time clinical practice” is defined as a minimum of 40 hours per week for at least 45 weeks per service year. The 40 hours per week may be compressed into no less than 4 work days per week, with no more than 12 hours of work to be performed in any 24-hour period. Time spent on-call does not count toward the full-time service obligation, except to the extent the provider is directly serving patients during that period.

For all health professionals, except as noted below, at least 32 of the minimum 40 hours per week must be spent providing direct patient care or teaching in the outpatient ambulatory care setting(s) at the NHSC-approved service site(s) during normally scheduled office hours. The remaining 8 hours per week must be spent providing clinical services for patients or teaching in the approved practice site(s), providing clinical services in alternative settings as directed by the approved practice site(s), or performing practice-related administrative activities. Teaching activities at the approved service site shall not exceed 8 hours of the minimum 40 hours per week, unless the teaching takes place in a HRSA-funded Teaching Health Center (see Sec. 340H of the U.S. Public Health Service Act, 42 United States Code Sec. 256h). Teaching activities in a HRSA-funded Teaching Health Center shall not exceed 20 hours of the minimum 40 hours per week.

For obstetrician/gynecologists, certified nurse midwives (CNMs), family medicine physicians who practice obstetrics on a regular basis, providers of geriatric services, pediatric dentists, and behavioral/mental health providers, at least 21 of the minimum 40 hours per week must be spent providing direct patient care or teaching in the outpatient ambulatory care setting(s) at the NHSC-approved service site(s), during normally scheduled office hours. The remaining 19 hours per week must be spent providing clinical services for patients or teaching in the approved practice site(s), providing clinical services in alternative settings as directed by the approved practice site(s), or performing practice-related administrative activities. No more than 8 hours per week can be spent performing practice-related administrative activities. Teaching activities at the approved service site shall not exceed 8 hours of the minimum 40 hours per week, unless the teaching takes place in a HRSA-funded Teaching Health Center. Teaching activities in a HRSA-funded Teaching Health Center shall not exceed 20 hours of the minimum 40 hours per week.

For health professionals serving in a Critical Access Hospital (CAH), defined as a nonprofit facility that is (a) located in a State that has established with the Centers for Medicare and Medicaid Services (CMS) a Medicare rural hospital flexibility program; (b) designated by the State as a CAH; (c) certified by the CMS as a CAH; and (d) in compliance with all applicable CAH conditions of participation, at least 16 of the minimum 40 hours per week must be spent providing direct patient care or teaching in the CAH-affiliated outpatient ambulatory care setting(s) specified in the Customer Service Portal, during normally scheduled office hours. The remaining 24 hours of the minimum 40 hours per week must be spent providing direct patient care for patients or teaching at the CAH(s) or the CAH-affiliated outpatient ambulatory care setting specified in the Practice Agreement, providing direct patient care in the CAH's skilled nursing facility or swing bed unit, or performing practice-related administrative activities. No more than 8 hours per week can be spent on practice-related administrative activities. Teaching activities at the approved service site(s) shall not exceed 8 hours of the minimum 40 hours per week, unless the teaching takes place in a HRSA-funded Teaching Health Center (THC) (see Definitions). Teaching activities in a HRSA-funded THC shall not exceed 20 hours of the minimum 40 hours per week.

Half-Time Clinical Practice

“Half-time clinical practice” is defined as a minimum of 20 hours per week (not to exceed 39 hours per week), for at least 45 weeks per service year. The 20 hours per week may be compressed into no less than 2 work days per week, with no more than 12 hours of work to be performed in any 24-hour period. Time spent on-call does not count toward the half-time service obligation, except to the extent the provider is directly serving patients during that period.

For all health professionals, except as noted below, at least 16 of the minimum 20 hours per week must be spent providing direct patient care in the outpatient ambulatory care setting(s) at the NHSC-approved service site(s), during normally scheduled office hours. The remaining 4 hours per week must be spent providing clinical services for patients or teaching in the approved practice site(s), providing clinical services in alternative settings as directed by the approved practice site(s), or performing practice-related administrative activities. Teaching and practice-related administrative activities shall not exceed a total of 4 hours of the minimum 20 hours per week.

For obstetrician/gynecologists, certified nurse midwives (CNMs), family medicine physicians who practice obstetrics on a regular basis, providers of geriatric services, pediatric dentists, and behavioral/mental health providers, at least 11 of the minimum 20 hours per week must be spent providing direct patient care in the outpatient ambulatory care setting(s) at the NHSC-approved service site(s), during normally scheduled office hours. The remaining 9 hours per week must be spent providing clinical services for patients or teaching in the approved practice site(s), providing clinical services in alternative settings as directed by the approved practice site(s), or performing practice-related administrative activities. Teaching and practice-related administrative activities shall not exceed 4 hours of the minimum 20 hours per week.

For health professionals serving in a Critical Access Hospital (CAH), at least 8 of the minimum 20 hours per week must be spent providing direct patient care or teaching in the CAH-affiliated outpatient ambulatory care setting(s) specified in the Customer Service Portal, during normally scheduled office hours. The remaining 12 hours of the minimum 20 hours per week must be spent providing direct patient care for patients or teaching at the CAH(s) or the CAH-affiliated outpatient ambulatory care setting specified in the Practice Agreement, providing direct patient care in the CAH's skilled nursing facility or swing bed unit, or performing practice-related administrative activities. Teaching and practice-related administrative activities shall not exceed 4 hours of the minimum 20 hours per week.

In addition to utilizing NHSC assignees in accordance with their full-time or half-time service obligation (as defined above), sites receiving assignment of Corps personnel are expected to (1) report to the NHSC all absences, including those in excess of the authorized number of days (up to 35 full-time days per service year in the case of full-time service and up to 35 half-time days per service year in the case of half-time service), but only to the extent the absences result in the clinician falling below the NHSC minimum service level; (2) report to the NHSC any change in the status of an NHSC clinician at the site; (3) provide the leave records, work schedules, and any related personnel documents for the NHSC assignees (including documentation, if applicable, of the reason(s) for the termination of an NHSC clinician's employment at the site prior to his or her obligated service end date); and (4) submit an NHSC Site Survey, or a Uniform Data System (UDS) report in the case of entities receiving HRSA grant support under Sec. 330 of the Public Health Service Act. The Site Survey and UDS report require the site to assess the age, sex, race/ethnicity of, and provider encounter records for its user population and are site specific. Providers fulfilling NHSC commitments are assigned to a specific site or, in some cases, more than one site.

Evaluation and Selection Process

In approving applications for the assignment of Corps members, the Secretary shall give priority to any application that is made regarding the provision of primary health services to a HPSA with the greatest shortage. For determination of priority assignments for NHSC LRP awards made using FY 2012 funding from November 1, 2011, to September 30, 2012, HPSAs of greatest shortage will be defined as follows: HPSAs (appropriate to each discipline) with scores of 14 and above are authorized for priority assignment of Corps members who are participating in the LRP. HPSAs with scores between 13 and 10 will be given second priority for the assignment of Corps personnel participating in the LRP. HPSAs with scores of 9 and below will be eligible to receive assignment of Corps personnel participating in the LRP only after assignments are made of Corps members matching to HPSAs scoring 10 or above. Placement made through the NHSC LRP in HPSAs with scores of 9 or below will be made by decreasing HPSA score, and only to the extent that funding remains available. All sites on the list are eligible sites for individuals wishing to serve in an underserved area but who are not contractually obligated under the NHSC Scholarship or Loan Repayment Programs. A listing of HPSAs and their scores is posted at http://hpsafind.hrsa.gov/.

In order to implement the statutory directive to place NHSC clinicians in the highest need areas and to assure appropriate distribution of NHSC resources, the number of new NHSC LRP placements (full-time or half-time) allowed at any one site during FY 2012 is limited to the following:

HPSA Score: 0-9.

Primary Medical Care

No more than 9 allopathic (MD) or osteopathic (DO) physicians; and no more than a combined total of 9 nurse practitioners (NPs), physician assistants (PAs), or certified nurse-midwives (CNMs).

Dental

No more than 9 dentists and 9 dental hygienists.

Mental Health

No more than 9 psychiatrists (MD or DO); and no more than a combined total of 9 health service psychologists (clinical or counseling psychologists), licensed clinical social workers, licensed professional counselors, marriage and family therapists, or psychiatric nurse specialists.

HPSA Score: 10-13.

Primary Medical Care

No more than 12 allopathic (MD) or osteopathic (DO) physicians; and no more than a combined total of 12 NPs, PAs, or CNMs.

Dental

No more than 12 dentists and 12 dental hygienists.

Mental Health

No more than 12 psychiatrists (MD or DO); and no more than a combined total of 12 health service psychologists (clinical or counseling psychologists), licensed clinical social workers, licensed professional counselors, marriage and family therapists, or psychiatric nurse specialists.

HPSA Score: 14-26.

Primary Medical Care

No more than 15 allopathic (MD) or osteopathic (DO) physicians; and no more than a combined total of 15 NPs, PAs, or CNMs.

Dental

No more than 15 dentists and 15 dental hygienists.

Mental Health

No more than 15 psychiatrists (MD or DO); and no more than a combined total of 15 health service psychologists (clinical or counseling psychologists), licensed clinical social workers, licensed professional counselors, marriage and family therapists, or psychiatric nurse specialists.

Application Requests, Dates, and Address

The list of HPSAs and entities that are eligible to receive priority for the placement of Corps personnel may be updated periodically. Entities that no longer meet eligibility criteria, including those sites whose NHSC 3-year approval has lapsed or whose HPSA designation is proposed for withdrawal or withdrawn, will be removed from the priority listing. New entities interested in being added to the high priority list must submit an online Site Application. The online application can be accessed at http://nhsc.hrsa.gov/sites/becomenhscapprovedsite/index.html. In order to qualify for placement of an NHSC loan repayor in the FY 2012 application cycle, Site Applications must be submitted and approved on or before March 30, 2012. Clinicians applying for LRP funding must be employed, or be starting employment within 60 days of the submission of their NHSC LRP application, at an entity with a currently approved Site Application. Therefore, we strongly encourage all sites to have current NHSC-approved Site Applications and vacancies on file. Site applications submitted after March 30, 2012, or under review as of March 30, 2012 will be considered for placement on the priority list in the following application cycle.

Entities interested in receiving application materials may do so by calling the HRSA call center at 1 (800) 221-9393. They may also get information and download application materials from: http://nhsc.hrsa.gov/sites/becomenhscapprovedsite/index.html.

Additional Information

Entities wishing to provide additional data and information in support of their inclusion on the proposed list of HPSAs and entities that would receive priority in assignment of Corps members, must do so in writing no later than [30 days after FRN publish date]. This information should be submitted to: Sonya Bayone, Chief, Site Branch, Division of National Health Service Corps, Bureau of Clinician Recruitment and Service, 5600 Fishers Lane, Room 8-37, Rockville, MD 20857. This information will be considered in preparing the final list of HPSAs and entities that are receiving priority for the assignment of Corps personnel.

Paperwork Reduction Act: The Site Application has been approved by the Office of Management and Budget under the Paperwork Reduction Act. The OMB clearance number is 0915-0230 and expires January 31, 2014.

The program is not subject to the provisions of Executive order 12372, Intergovernmental Review of Federal Programs (as implemented through 45 CFR part 100).

Dated: January 20, 2012.
Mary K. Wakefield,
Administrator.

[FR Doc. 2012-1844 Filed 1-26-12; 8:45 am]

BILLING CODE 4165-15-P